DEPARTMENT OF LABOR

Employment and Training Administration

Employment and Training (ETA) Program Year (PY) 2024 Workforce Innovation and Opportunity Act (WIOA) Section 166, Indian and Native American Programs Grantee Allotments

AGENCY: Employment and Training Administration, Labor.

ACTION: Notice.

SUMMARY: This notice announces allotments for PY 2024 for the Indian and Native American (INA) Programs.

DATES: The PY 2024 INA Program allotments become effective for the grant period that begins July 1, 2024. Written comments on this notice are invited and must be received by July 29, 2024.

ADDRESSES: Comments are accepted via email to DINAP@dol.gov. Please enter “PY24 Indian and Native American Program Allotments Public Comment” in the subject line of the email.

FOR FURTHER INFORMATION CONTACT: Nathaniel Coley, Chief, Division of Indian and Native American Programs, Office of Workforce Investment, at 202-693-4287 (this is not a toll-free number).

SUPPLEMENTARY INFORMATION: This notice is published pursuant to Section 182(d) of the WIOA, Prompt Allotment of Funds. The Department is announcing PY 2024 allotments for the INA Program. This notice provides information on the amount of funds available during PY 2024 to federally recognized Tribes, Tribal controlled non-profit organizations, and Tribal consortiums awarded through the PY 2022 Funding Opportunity Announcement (FOA) for the INA Program workforce development grants. On March 23, 2024, the Further Consolidated Appropriations Act, 2024, Public Law 118-47 was signed into law (“the Act”). The Act appropriates $60,000,000 for the INA Program under the WIOA Section 166. Of this amount, $600,000 will be set-aside for technical assistance pursuant to 20 CFR 684.270(e). Therefore, the total amount available for the INA Comprehensive Services Program is $59,400,000. This amount will be allocated to WIOA Section 166 INA Program grantees using the formula at 20 CFR 684.270(b).

Description of Data Files and Allotment Formula. The data source to calculate the INA Program annual funding formula will be updated from the 2000 Decennial Census Data to the 5-year (2014-2018) American Community Survey (ACS) data for American Indian, Alaska Native, and Native Hawaiians unemployment and poverty data. The WIOA Final Rule at 20 CFR 684.270(b)(3) states that data and definitions used to implement the funding formula are provided by the U.S. Census Bureau. However, in 2010 the Census Bureau discontinued the use of “long form” questions. The long form questionnaire was administered in conjunction with each ten-year census of population, and asked detailed questions about a person's education, employment, income, and other characteristics and served as the data source of the unemployment and poverty counts for INA geographic service area(s) that the Department used to allocate funds for the WIOA Section 166 INA Program grants.

The Census Bureau transitioned from using the long form questions during the decennial count to collecting similar data on the population in the ACS. The ACS has a smaller sample size than the decennial census and is collected over a number of years. The data that is being implemented for the PY 2024 INA Program allotments has been aggregated over a 5-year period, 2014-2018. Using these updated data allows the Department to allocate resources more effectively and design programs that are responsive to the changing needs of the community regarding demographic trends, economic conditions, and other factors. The change in unemployment and poverty counts from decennial Census to ACS sources for WIOA Section 166 INA Program grantees is available at: https://www.dol.gov/agencies/eta/dinap/census.

The INA Program funding allotment formula (20 CFR 684.270(b)) states that each INA Program grantee will receive the sum of funds calculated using the following: (1) One-quarter of the funding available will be allocated on the basis of the number of unemployed American Indian, Alaska Native, and Native Hawaiian individuals in the grantee's geographic service area(s) compared to all such unemployed persons in the United States; and (2) Three-quarters of the funding available will be allocated on the basis of the number of American Indian, Alaska Native, and Native Hawaiian individuals in poverty in the grantee's geographic service area(s) as compared to all such persons in poverty in the United States.

Description of the Hold-Harmless Provision. To minimize program disruptions, the Department is implementing a “hold-harmless” or phase-in approach to adjusting funding allotments resulting from use of the ACS population data in the funding formula. Pursuant to 20 CFR 684.270(c), the Department is applying the hold-harmless or phase-in approach beginning with the PY 2024 funding allotments after consulting with the grantee community and the Native American Employment and Training Council.

The hold-harmless process compares each grantee's relative share (or percentage) of the ACS data's total relevant population to the grantee's relative share (percentage, not dollars) of the prior year's (PY 2023) funding allotment. Therefore, when the hold-harmless is applied, a grantee will receive funding for PY 2024 based on no less than 95 percent of their prior year relative share (percentage, not dollars). Additionally, the hold-harmless approach will be in effect over a three-year period, PY 2024 through PY 2026, applied against the prior year relative share (percentage, not dollars). The hold-harmless levels for the CSP and Supplemental Youth Services Program (SYSP) will be 95 percent for PY 2024, 90 percent for PY 2025, and 80 percent for PY 2026. In PY 2027, all grantees will receive funding that reflects their actual relative share based on the updated ACS data.

Funding Allotments. The WIOA Section 166 INA Program grantee allotments set forth in the Tables appended to the notice reflect the distribution resulting from the allotment formula described above. For PY 2024, the funding level provided in the Further Consolidated Appropriations Act, 2024 for the INA Program is $60,000,000. Of this amount, $600,000 will be set aside for technical assistance pursuant to 20 CFR 684.270(e). Therefore, the total amount available for the CSP is $59,400,000. The Act also provides $948,130,000 for grants to states for WIOA Youth activities. After reductions authorized by the Act, $944,073,800 is available for Youth Activities and 1½ percent of this amount is reserved for the SYSP. Accordingly, $14,161,107 is available for PY 2024 to be allotted to the INA grantees that receive SYSP funding.

For purposes of illustrating the effects of the allotment formula and application of the hold-harmless process for the CSP and SYSP, columns 5 through 7 in Tables A and B show the PY 2024 amount, dollar difference between PY 2023 and PY 2024 amounts, and percent difference between PY 2023 and PY 2024 amounts without applying the hold-harmless provision. Column 8 shows the PY 2024 amount after applying the hold-harmless.

José Javier Rodríguez,
Assistant Secretary for Employment and Training, Labor.

Table A—U.S. Department of Labor Employment and Training Administration WIOA Section 166 Adult Funding for Native Americans PY 2024 Funding Allotments
Type | State | Grantee name | PY 2023 actual amount: $59,332,680 | PY 2024 amount without hold-harmless: $59,400,000 | Difference without hold-harmless | % Difference without hold-harmless | PY 2024 amount with hold-harmless: $59,400,000
| AL | Inter-Tribal Council of Alabama | 315,100 | 291,030 | −24,070 | −7.6 | 299,685
| AL | Poarch Band of Creek Indians | 101,019 | 84,990 | −16,029 | −15.9 | 96,077
477 | AK | Aleutian-Pribilof Islands Association | 30,611 | 29,162 | −1,449 | −4.7 | 29,162
477 | AK | Association of Village Council Presidents | 439,216 | 652,685 | 213,469 | 48.6 | 504,965
477 | AK | Bristol Bay Native Association | 126,540 | 101,427 | −25,113 | −19.8 | 120,349
477 | AK | Central Council of Tlingit and Haida Indian Tribes | 206,809 | 212,330 | 5,521 | 2.7 | 208,663
477 | AK | Chugachmiut | 29,825 | 19,105 | −10,720 | −35.9 | 28,366
477 | AK | Cook Inlet Tribal Council, Inc | 440,425 | 427,811 | −12,614 | −2.9 | 427,811
477 | AK | Copper River Native Association | 20,038 | 14,915 | −5,123 | −25.6 | 19,058
477 | AK | Kawerak Incorporated | 164,735 | 206,686 | 41,951 | 25.5 | 177,718
477 | AK | Kenaitze Indian Tribe | 47,331 | 60,596 | 13,265 | 28.0 | 51,432
477 | AK | Knik Tribe | 33,139 | 64,928 | 31,789 | 95.9 | 42,905
477 | AK | Kodiak Area Native Association | 31,104 | 46,800 | 15,696 | 50.5 | 35,937
477 | AK | Maniilaq Association | 123,384 | 179,349 | 55,965 | 45.4 | 140,628
477 | AK | Metlakatla Indian Community | 19,954 | 25,136 | 5,182 | 26.0 | 21,557
477 | AK | Orutsararmuit Native Council | 56,521 | 68,344 | 11,823 | 20.9 | 60,188
477 | AK | Tanana Chiefs Conference | 310,126 | 278,830 | −31,296 | −10.1 | 294,954
| AZ | American Indian Association of Tucson | 369,900 | 761,027 | 391,127 | 105.7 | 490,026
| AZ | Colorado River Indian Tribes | 67,729 | 83,532 | 15,803 | 23.3 | 72,624
| AZ | Gila River Indian Community | 558,320 | 683,714 | 125,394 | 22.5 | 597,178
| AZ | Hopi Tribal Council | 237,765 | 227,608 | −10,157 | −4.3 | 227,608
477 | AZ | Hualapai Tribe | 35,626 | 40,144 | 4,518 | 12.7 | 37,038
| AZ | Inter Tribal Council of Arizona, Inc | 87,229 | 110,987 | 23,758 | 27.2 | 94,577
| AZ | Navajo Nation | 6,668,340 | 5,201,989 | −1,466,351 | −22.0 | 6,342,111
477 | AZ | Pascua Yaqui Tribe | 109,929 | 116,280 | 6,351 | 5.8 | 111,961
| AZ | Phoenix Indian Center, Inc | 1,560,643 | 2,021,072 | 460,429 | 29.5 | 1,702,940
| AZ | Quechan Indian Tribe | 36,754 | 24,240 | −12,514 | −34.0 | 34,956
| AZ | Salt River Pima-Maricopa Indian Community | 92,607 | 160,075 | 67,468 | 72.9 | 113,351
| AZ | San Carlos Apache Community College | 421,640 | 384,968 | −36,672 | −8.7 | 401,012
477 | AZ | Tohono O'Odham Nation | 405,468 | 402,784 | −2,684 | −0.7 | 402,784
| AZ | White Mountain Apache Tribe | 496,675 | 600,071 | 103,396 | 20.8 | 528,745
| AR | American Indian Center of Arkansas, Inc | 348,621 | 363,029 | 14,408 | 4.1 | 353,310
| CA | California Indian Manpower Consortium, Inc | 3,644,453 | 3,087,670 | −556,783 | −15.3 | 3,466,159
| CA | Native American Health Center, Inc | 482,652 | 487,631 | 4,979 | 1.0 | 484,557
| CA | Northern California Indian Development Council, Inc | 651,316 | 625,820 | −25,496 | −3.9 | 625,820
| CA | Southern California American Indian Resource Center, Inc | 787,175 | 657,977 | −129,198 | −16.4 | 748,665
| CA | Tule River Tribal Council | 134,104 | 143,297 | 9,193 | 6.9 | 137,026
| CA | United American Indian Involvement | 1,796,930 | 1,420,607 | −376,323 | −20.9 | 1,709,020
| CO | Denver Indian Center Inc | 679,888 | 892,716 | 212,828 | 31.3 | 745,630
| CO | Ute Mountain Ute Tribe | 94,412 | 63,962 | −30,450 | −32.3 | 89,793
| FL | Florida Governor's Council on Indian Affairs, Inc | 1,249,259 | 1,426,614 | 177,355 | 14.2 | 1,304,581
| FL | Miccosukee Tribe of Indians | 130,079 | 65,353 | −64,726 | −49.8 | 123,715
| HI | Alu Like, Inc | 1,439,886 | 1,272,582 | −167,304 | −11.6 | 1,369,444
477 | ID | Nez Perce Tribe | 75,017 | 85,317 | 10,300 | 13.7 | 78,232
477 | ID | Shoshone-Bannock Tribes, Inc | 194,870 | 194,612 | −258 | −0.1 | 194,612
| IN | Place Holder | 279,420 | 239,042 | −40,378 | −14.5 | 265,750
| KS | United Tribes of Kansas and Southeast Nebraska, Inc | 218,214 | 278,827 | 60,613 | 27.8 | 236,957
| LA | Inter-Tribal Council of Louisiana, Inc | 529,053 | 509,434 | −19,619 | −3.7 | 509,434
| ME | Penobscot Indian Nation | 205,013 | 214,768 | 9,755 | 4.8 | 208,163
477 | MA | Mashpee-Wampanoag Indian Tribal Council, Inc | 63,086 | 41,338 | −21,748 | −34.5 | 60,000
477 | MI | Grand Traverse Band of Ottawa & Chippewa Indians | 33,712 | 36,132 | 2,420 | 7.2 | 34,480
| MI | Inter-Tribal Council of Michigan, Inc | 101,148 | 95,437 | −5,711 | −5.6 | 96,200
| MI | Little Traverse Bay Band of Odawa Indians | 149,352 | 131,650 | −17,702 | −11.9 | 142,045
| MI | Michigan Indian Employment and Training Services, Inc | 348,385 | 335,809 | −12,576 | −3.6 | 335,809
| MI | North American Indian Association of Detroit, Inc | 169,349 | 123,927 | −45,422 | −26.8 | 161,064
| MI | Sault Ste. Marie Tribe of Chippewa Indians | 179,437 | 179,851 | 414 | 0.2 | 179,705
| MI | Southeastern Michigan Indians. Inc | 80,107 | 87,516 | 7,409 | 9.2 | 82,440
| MN | American Indian Opportunities, Inc | 279,855 | 201,486 | −78,369 | −28.0 | 266,164
477 | MN | Bois Forte Reservation Tribal Council | 21,397 | 36,728 | 15,331 | 71.7 | 26,111
| MN | Fond Du Lac Reservation | 208,761 | 194,378 | −14,383 | −6.9 | 198,548
| MN | Leech Lake Band of Ojibwe | 48,017 | 43,877 | −4,140 | −8.6 | 45,668
477 | MN | Mille Lacs Band of Ojibwe Indians | 57,963 | 55,764 | −2,199 | −3.8 | 55,764
| MN | Minneapolis American Indian Center | 371,466 | 376,510 | 5,044 | 1.4 | 373,304
| MN | Northwest Indian OIC | 113,000 | 144,998 | 31,998 | 28.3 | 122,893
477 | MN | Red Lake Nation | 233,334 | 279,263 | 45,929 | 19.7 | 247,590
477 | MN | White Earth Reservation Tribal Council | 126,695 | 146,430 | 19,735 | 15.6 | 132,841
| MS | Mississippi Band of Choctaw Indians | 315,581 | 354,730 | 39,149 | 12.4 | 327,824
| MO | American Indian Council | 775,847 | 769,059 | −6,788 | −0.9 | 769,059
477 | MT | Assiniboine and Sioux Tribes | 287,147 | 229,787 | −57,360 | −20.0 | 273,099
477 | MT | Blackfeet Tribal Business Council | 302,287 | 284,805 | −17,482 | −5.8 | 287,498
| MT | Business Committee of the Chippewa Cree Tribe | 148,417 | 144,184 | −4,233 | −2.9 | 144,184
477 | MT | Confederated Salish & Kootenai Tribes | 297,102 | 284,675 | −12,427 | −4.2 | 284,675
477 | MT | Fort Belknap Community Council | 128,316 | 143,066 | 14,750 | 11.5 | 132,936
| MT | Little Big Horn College | 172,998 | 164,487 | −8,511 | −4.9 | 164,535
| MT | Montana United Indian Association | 360,673 | 317,358 | −43,315 | −12.0 | 343,028
| MT | Northern Cheyenne Tribe | 224,872 | 205,963 | −18,909 | −8.4 | 213,871
| NE | Omaha Tribe of Nebraska | 83,321 | 87,969 | 4,648 | 5.6 | 84,811
| NE | Ponca Tribe of Nebraska | 299,801 | 270,727 | −29,074 | −9.7 | 285,134
477 | NE | Winnebago Tribe of Nebraska | 47,076 | 61,549 | 14,473 | 30.7 | 51,547
| NV | Inter-Tribal Council of Nevada | 297,620 | 503,811 | 206,191 | 69.3 | 361,028
| NV | Las Vegas Indian Center, Inc | 200,867 | 422,203 | 221,336 | 110.2 | 268,839
477 | NV | Reno Sparks Indian Colony | 17,865 | 33,913 | 16,048 | 89.8 | 22,796
477 | NV | Shoshone-Paiute Tribes | 128,353 | 147,447 | 19,094 | 14.9 | 134,304
| NM | Alamo Navajo School Board, Inc | 93,714 | 51,849 | −41,865 | −44.7 | 89,129
| NM | Eight Northern Indian Pueblo Council | 77,153 | 61,912 | −15,241 | −19.8 | 73,379
| NM | Five Sandoval Indian Pueblos, Inc | 161,080 | 170,152 | 9,072 | 5.6 | 163,986
| NM | Jicarilla Apache Tribe | 64,942 | 73,867 | 8,925 | 13.7 | 67,728
| NM | Mescalero Apache Tribe | 92,168 | 108,697 | 16,529 | 17.9 | 97,305
| NM | National Indian Youth Council | 1,683,062 | 2,124,270 | 441,208 | 26.2 | 1,819,566
477 | NM | Ohkay Owingeh | 28,041 | 30,954 | 2,913 | 10.4 | 28,956
| NM | Pueblo of Acoma | 143,181 | 163,085 | 19,904 | 13.9 | 149,392
| NM | Pueblo of Isleta | 41,957 | 78,528 | 36,571 | 87.2 | 53,195
477 | NM | Pueblo of Laguna | 91,708 | 100,710 | 9,002 | 9.8 | 94,538
477 | NM | Pueblo of Taos | 42,814 | 35,371 | −7,443 | −17.4 | 40,719
477 | NM | Pueblo of Zuni | 299,760 | 308,491 | 8,731 | 2.9 | 302,671
| NM | Ramah Navajo School Board, Inc | 94,734 | 138,299 | 43,565 | 46.0 | 108,156
| NM | Santo Domingo Tribe | 105,332 | 71,444 | −33,888 | −32.2 | 100,179
| NY | Native American Community Svcs. of Erie & Niagara Counties, Inc | 385,997 | 309,828 | −76,169 | −19.7 | 367,113
477 | NY | Seneca Nation of Indians | 250,201 | 214,696 | −35,505 | −14.2 | 237,961
477 | NY | St. Regis Mohawk Tribe | 146,248 | 125,612 | −20,636 | −14.1 | 139,093
| NC | Cumberland County Association for Indian People, Inc | 68,360 | 105,019 | 36,659 | 53.6 | 79,646
| NC | Eastern Band of Cherokee Indians | 122,507 | 91,021 | −31,486 | −25.7 | 116,514
| NC | Guilford Native American Association | 82,393 | 123,255 | 40,862 | 49.6 | 94,977
| NC | Lumbee Regional Development Association, Inc | 1,253,771 | 1,602,269 | 348,498 | 27.8 | 1,361,532
| NC | North Carolina Commission of Indian Affairs | 376,895 | 516,694 | 139,799 | 37.1 | 420,024
477 | ND | Spirit Lake Sioux Tribe | 164,222 | 174,715 | 10,493 | 6.4 | 167,566
477 | ND | Standing Rock Sioux Tribe | 237,743 | 278,568 | 40,825 | 17.2 | 250,438
477 | ND | Three Affiliated Tribes | 198,570 | 146,146 | −52,424 | −26.4 | 188,856
| ND | Turtle Mountain Band of Chippewa Indians | 323,705 | 289,257 | −34,448 | −10.6 | 307,869
| ND | United Tribes Technical College | 253,365 | 315,541 | 62,176 | 24.5 | 272,614
| OH | North American Indian Cultural Center, Inc | 555,217 | 545,572 | −9,645 | −1.7 | 545,572
477 | OK | Absentee Shawnee Tribe | 24,631 | 27,448 | 2,817 | 11.4 | 25,513
477 | OK | Cherokee Nation of Oklahoma | 1,426,495 | 1,539,153 | 112,658 | 7.9 | 1,462,134
477 | OK | Cheyenne Arapaho Tribes of Oklahoma | 170,817 | 140,535 | −30,282 | −17.7 | 162,460
477 | OK | Chickasaw Nation | 390,478 | 270,248 | −120,230 | −30.8 | 371,375
477 | OK | Choctaw Nation of Oklahoma | 627,190 | 505,973 | −121,217 | −19.3 | 596,507
477 | OK | Citizen Potawatomi Nation | 459,030 | 515,176 | 56,146 | 12.2 | 476,594
| OK | Comanche Tribe of Oklahoma | 166,817 | 147,509 | −19,308 | −11.6 | 158,656
477 | OK | Creek Nation of Oklahoma | 784,469 | 915,772 | 131,303 | 16.7 | 825,316
| OK | Inter-Tribal Council of Northeast Oklahoma | 80,864 | 87,513 | 6,649 | 8.2 | 82,965
| OK | Kiowa Tribe of Oklahoma | 244,037 | 233,760 | −10,277 | −4.2 | 233,760
477 | OK | Osage Nation | 105,854 | 79,852 | −26,002 | −24.6 | 100,675
| OK | Otoe-Missouria Tribe | 35,730 | 25,650 | −10,080 | −28.2 | 33,982
477 | OK | Pawnee Nation of Oklahoma | 34,038 | 30,556 | −3,482 | −10.2 | 32,373
| OK | Ponca Tribe of Oklahoma | 89,222 | 80,138 | −9,084 | −10.2 | 84,857
| OK | Tonkawa Tribe of Oklahoma | 68,101 | 49,679 | −18,422 | −27.1 | 64,769
| OK | United Urban Indian Council, Inc | 397,348 | 311,166 | −86,182 | −21.7 | 377,909
477 | OK | Wyandotte Nation | 118,868 | 106,679 | −12,189 | −10.3 | 113,053
477 | OR | Confed. Tribes of the Umatilla Indian Reservation | 29,796 | 31,375 | 1,579 | 5.3 | 30,303
477 | OR | Confederated Tribes of Siletz Indians | 477,612 | 539,555 | 61,943 | 13.0 | 496,966
| OR | Confederated Tribes of Warm Springs | 139,804 | 165,719 | 25,915 | 18.5 | 147,854
| PA | Council of Three Rivers American Indian Center, Inc | 1,021,751 | 1,090,607 | 68,856 | 6.7 | 1,043,652
| RI | Rhode Island Indian Council, Inc | 2,218,737 | 1,986,745 | −231,992 | −10.5 | 2,110,192
| SC | South Carolina Indian Development Council, Inc | 268,312 | 341,283 | 72,971 | 27.2 | 290,880
477 | SD | Cheyenne River Sioux Tribe | 245,120 | 268,425 | 23,305 | 9.5 | 252,453
| SD | Lower Brule Sioux Tribe | 61,636 | 51,661 | −9,975 | −16.2 | 58,621
| SD | Oglala Sioux Tribe | 726,310 | 659,715 | −66,595 | −9.2 | 690,777
477 | SD | Rosebud Sioux Tribe (Sicangu Nation) | 1,151,613 | 1,429,383 | 277,770 | 24.1 | 1,237,624
477 | SD | Sisseton-Wahpeton Oyate | 136,403 | 168,651 | 32,248 | 23.6 | 146,391
| SD | Yankton Sioux Tribe | 118,475 | 109,075 | −9,400 | −7.9 | 112,679
| TN | Native American Indian Association, Inc | 253,515 | 293,658 | 40,143 | 15.8 | 266,014
| TX | Alabama-Coushatta Indian Tribal Council | 889,917 | 888,765 | −1,152 | −0.1 | 888,765
| TX | Dallas Inter-Tribal Center | 497,550 | 458,905 | −38,645 | −7.8 | 473,209
| TX | Ysleta del Sur Pueblo | 712,821 | 725,147 | 12,326 | 1.7 | 717,158
| UT | Indian Training & Education Center | 390,447 | 460,322 | 69,875 | 17.9 | 412,163
| UT | Ute Indian Tribe | 129,842 | 107,374 | −22,468 | −17.3 | 123,490
| VA | Mattaponi Pamunkey Monacan Consortium | 275,842 | 300,666 | 24,824 | 9.0 | 283,665
| WA | American Indian Community Center | 442,813 | 467,030 | 24,217 | 5.5 | 450,581
| WA | Confederated Tribes & Bands of the Yakama Nation | 221,833 | 239,681 | 17,848 | 8.0 | 227,476
477 | WA | Confederated Tribes of the Colville Reservation | 200,695 | 120,699 | −79,996 | −39.9 | 190,877
477 | WA | Lummi Indian Business Council | 122,616 | 121,518 | −1,098 | −0.9 | 121,518
477 | WA | Makah Tribal Council | 37,569 | 35,576 | −1,993 | −5.3 | 35,731
477 | WA | South Puget Intertribal Planning Agency | 675,776 | 624,251 | −51,525 | −7.6 | 642,716
477 | WA | Spokane Reservation | 43,942 | 43,596 | −346 | −0.8 | 43,596
477 | WA | Suquamish Indian Tribe | 160,202 | 145,789 | −14,413 | −9.0 | 152,365
477 | WA | The Tulalip Tribes | 48,677 | 27,995 | −20,682 | −42.5 | 46,296
| WA | United Indians of All Tribes Foundation | 313,482 | 235,832 | −77,650 | −24.8 | 298,146
477 | WI | Ho-Chunk Nation | 192,655 | 175,392 | −17,263 | −9.0 | 183,230
| WI | Lac Courte Oreilles Tribal Governing Board | 187,265 | 246,518 | 59,253 | 31.6 | 205,567
| WI | Lac Du Flambeau Band of Lake Superior Chippewa Indians, Inc | 46,345 | 67,683 | 21,338 | 46.0 | 52,919
477 | WI | Menominee Indian Tribe of Wisconsin | 108,173 | 99,971 | −8,202 | −7.6 | 102,881
| WI | Oneida Tribe of Indians of Wisconsin | 180,750 | 224,460 | 43,710 | 24.2 | 194,284
| WI | Spotted Eagle, Inc | 238,834 | 131,733 | −107,101 | −44.8 | 227,150
477 | WI | Stockbridge-Munsee Community | 61,051 | 58,379 | −2,672 | −4.4 | 58,379
477 | WY | Eastern Shoshone Tribe | 142,057 | 106,841 | −35,216 | −24.8 | 135,107
477 | WY | Northern Arapaho Business Council | 241,542 | 178,692 | −62,850 | −26.0 | 229,725
Total |  |  | 59,332,680 | 59,400,000 |  |  | 59,400,000

Table B—U.S. Department of Labor Employment and Training Administration WIOA Section 166 Youth Funding for Native Americans PY 2024 Funding Allotments
Type | State | Grantee name | PY 2023 actual amount: $14,153,637 | PY 2024 amount without hold-harmless: $14,161,107 | Difference without hold-harmless | % Difference without hold-harmless | PY 2024 amount with hold-harmless: $14,161,107
| AL | Inter-Tribal Council of Alabama | $5,209 | $5,209 | $0 | 0.0 | 5,209
| AL | Poarch Band of Creek Indians | 0 | 0 | 0 | 0.0 | 0
477 | AK | Aleutian-Pribilof Islands Association | 12,338 | 12,403 | 65 | 0.5 | 12,364
477 | AK | Association of Village Council Presidents | 168,894 | 307,602 | 138,708 | 82.1 | 215,966
477 | AK | Bristol Bay Native Association | 49,352 | 38,698 | −10,654 | −21.6 | 46,909
477 | AK | Central Council of Tlingit and Haida Indian Tribes | 69,915 | 73,924 | 4,008 | 5.7 | 71,298
477 | AK | Chugachmiut | 6,032 | 21,582 | 15,550 | 257.8 | 11,304
477 | AK | Cook Inlet Tribal Council, Inc | 131,057 | 142,886 | 11,829 | 9.0 | 135,112
477 | AK | Copper River Native Association | 9,596 | 6,946 | −2,650 | −27.6 | 9,121
477 | AK | Kawerak Incorporated | 61,690 | 96,746 | 35,056 | 56.8 | 73,593
477 | AK | Kenaitze Indian Tribe | 23,305 | 23,070 | −235 | −1.0 | 23,070
477 | AK | Knik Tribe | 19,192 | 26,047 | 6,854 | 35.7 | 21,522
477 | AK | Kodiak Area Native Association | 9,596 | 16,869 | 7,272 | 75.8 | 12,064
477 | AK | Maniilaq Association | 53,465 | 85,335 | 31,870 | 59.6 | 64,285
477 | AK | Metlakatla Indian Community | 5,484 | 8,434 | 2,951 | 53.8 | 6,486
477 | AK | Orutsararmuit Native Council | 16,451 | 27,287 | 10,837 | 65.9 | 20,129
477 | AK | Tanana Chiefs Conference | 116,526 | 97,490 | −19,036 | −16.3 | 110,758
| AZ | American Indian Association of Tucson | 0 | 0 | 0 | 0.0 | 0
| AZ | Colorado River Indian Tribes | 32,901 | 70,203 | 37,301 | 113.4 | 45,555
| AZ | Gila River Indian Community | 216,601 | 227,725 | 11,124 | 5.1 | 220,447
| AZ | Hopi Tribal Council | 120,638 | 116,591 | −4,047 | −3.4 | 116,591
477 | AZ | Hualapai Tribe | 20,563 | 14,636 | −5,927 | −28.8 | 19,545
| AZ | Inter Tribal Council of Arizona, Inc | 39,208 | 50,109 | 10,902 | 27.8 | 42,916
| AZ | Navajo Nation | 3,144,826 | 2,763,706 | −381,121 | −12.1 | 2,989,161
477 | AZ | Pascua Yaqui Tribe | 56,207 | 74,668 | 18,461 | 32.8 | 62,484
| AZ | Phoenix Indian Center, Inc | 0 | 0 | 0 | 0.0 | 0
| AZ | Quechan Indian Tribe | 17,822 | 23,814 | 5,993 | 33.6 | 19,859
| AZ | Salt River Pima-Maricopa Indian Community | 53,465 | 52,838 | −627 | −1.2 | 52,838
| AZ | San Carlos Apache Community College | 227,568 | 185,802 | −41,766 | −18.4 | 216,304
477 | AZ | Tohono O'Odham Nation | 228,939 | 237,895 | 8,957 | 3.9 | 232,054
| AZ | White Mountain Apache Tribe | 272,808 | 218,546 | −54,261 | −19.9 | 259,304
| AR | American Indian Center of Arkansas, Inc | 0 | 0 | 0 | 0.0 | 0
| CA | California Indian Manpower Consortium, Inc | 114,058 | 141,398 | 27,340 | 24.0 | 123,364
| CA | Native American Health Center, Inc | 0 | 0 | 0 | 0.0 | 0
| CA | Northern California Indian Development Council, Inc | 63,335 | 74,668 | 11,333 | 17.9 | 67,198
| CA | Southern California American Indian Resource Center, Inc | 0 | 0 | 0 | 0.0 | 0
| CA | Tule River Tribal Council | 8,225 | 22,078 | 13,853 | 168.4 | 12,923
| CA | United American Indian Involvement | 0 | 0 | 0 | 0.0 | 0
| CO | Denver Indian Center, Inc | 0 | 0 | 0 | 0.0 | 0
| CO | Ute Mountain Ute Tribe | 23,305 | 16,869 | −6,437 | −27.6 | 22,151
| FL | Florida Governor's Council on Indian Affairs, Inc | 0 | 0 | 0 | 0.0 | 0
| FL | Miccosukee Tribe of Indians | 5,758 | 0 | −5,758 | −100.0 | 0
| HI | Alu Like, Inc | 1,916,507 | 1,850,078 | −66,429 | −3.5 | 1,850,078
477 | ID | Nez Perce Tribe | 15,902 | 32,001 | 16,098 | 101.2 | 21,364
477 | ID | Shoshone-Bannock Tribes, Inc | 58,948 | 44,900 | −14,048 | −23.8 | 56,030
| IN | Place Holder | 0 | 0 | 0 | 0.0 | 0
| KS | United Tribes of Kansas and Southeast Nebraska, Inc | 10,693 | 10,915 | 222 | 2.1 | 10,772
| LA | Inter-Tribal Council of Louisiana, Inc | 4,113 | 1,985 | −2,128 | −51.7 | 3,909
| ME | Penobscot Indian Nation | 25,773 | 17,365 | −8,408 | −32.6 | 24,497
477 | MA | Mashpee-Wampanoag Indian Tribal Council, Inc | 0 | 0 | 0 | 0.0 | 0
477 | MI | Grand Traverse Band of Ottawa & Chippewa Indians | 0 | 5,457 | 5,457 | 0.0 | 5,457
| MI | Inter-Tribal Council of Michigan, Inc | 30,160 | 46,388 | 16,229 | 53.8 | 35,671
| MI | Little Traverse Bay Band of Odawa Indians | 0 | 0 | 0 | 0.0 | 0
| MI | Michigan Indian Employment and Training Services, Inc | 0 | 0 | 0 | 0.0 | 0
| MI | North American Indian Association of Detroit, Inc | 0 | 0 | 0 | 0.0 | 0
| MI | Sault Ste. Marie Tribe of Chippewa Indians | 20,015 | 33,241 | 13,226 | 66.1 | 24,505
| MI | Southeastern Michigan Indians, Inc | 0 | 0 | 0 | 0.0 | 0
| MN | American Indian Opportunities, Inc | 0 | 0 | 0 | 0.0 | 0
477 | MN | Bois Forte Reservation Tribal Council | 9,322 | 8,434 | −888 | −9.5 | 8,861
| MN | Fond Du Lac Reservation | 18,644 | 33,489 | 14,845 | 79.6 | 23,682
| MN | Leech Lake Band of Ojibwe | 54,562 | 57,799 | 3,238 | 5.9 | 55,678
477 | MN | Mille Lacs Band of Ojibwe Indians | 24,402 | 11,659 | −12,743 | −52.2 | 23,194
| MN | Minneapolis American Indian Center | 0 | 0 | 0 | 0.0 | 0
| MN | Northwest Indian OIC | 0 | 0 | 0 | 0.0 | 0
477 | MN | Red Lake Nation | 86,366 | 94,265 | 7,899 | 9.1 | 89,073
477 | MN | White Earth Reservation Tribal Council | 56,207 | 56,559 | 353 | 0.6 | 56,346
| MS | Mississippi Band of Choctaw Indians | 69,641 | 115,847 | 46,206 | 66.3 | 85,326
| MO | American Indian Council | 9,596 | 4,465 | −5,131 | −53.5 | 9,121
477 | MT | Assiniboine and Sioux Tribes | 141,202 | 102,203 | −38,999 | −27.6 | 134,213
477 | MT | Blackfeet Tribal Business Council | 130,235 | 128,250 | −1,985 | −1.5 | 128,250
| MT | Business Committee of the Chippewa Cree Tribe | 39,756 | 69,459 | 29,703 | 74.7 | 49,837
477 | MT | Confederated Salish & Kootenai Tribes | 142,573 | 123,537 | −19,036 | −13.4 | 135,516
477 | MT | Fort Belknap Community Council | 52,094 | 54,823 | 2,729 | 5.2 | 53,037
| MT | Little Big Horn College | 90,205 | 72,931 | −17,273 | −19.1 | 85,740
| MT | Montana United Indian Association | 0 | 0 | 0 | 0.0 | 0
| MT | Northern Cheyenne Tribe | 101,446 | 72,435 | −29,011 | −28.6 | 96,425
| NE | Omaha Tribe of Nebraska | 47,981 | 40,187 | −7,794 | −16.2 | 45,606
| NE | Ponca Tribe of Nebraska | 0 | 0 | 0 | 0.0 | 0
477 | NE | Winnebago Tribe of Nebraska | 21,934 | 22,078 | 144 | 0.7 | 21,990
| NV | Inter-Tribal Council of Nevada | 50,175 | 75,908 | 25,734 | 51.3 | 58,914
| NV | Las Vegas Indian Center, Inc | 0 | 0 | 0 | 0.0 | 0
477 | NV | Reno Sparks Indian Colony | 9,596 | 9,675 | 78 | 0.8 | 9,626
477 | NV | Shoshone-Paiute Tribes | 15,080 | 12,403 | −2,677 | −17.7 | 14,334
| NM | Alamo Navajo School Board, Inc | 50,723 | 22,326 | −28,397 | −56.0 | 48,212
| NM | Eight Northern Indian Pueblo Council | 27,966 | 32,745 | 4,779 | 17.1 | 29,596
| NM | Five Sandoval Indian Pueblos, Inc | 95,688 | 78,389 | −17,299 | −18.1 | 90,952
| NM | Jicarilla Apache Tribe | 28,789 | 31,256 | 2,468 | 8.6 | 29,635
| NM | Mescalero Apache Tribe | 63,061 | 58,544 | −4,517 | −7.2 | 59,940
| NM | National Indian Youth Council | 0 | 0 | 0 | 0.0 | 0
477 | NM | Ohkay Owingeh | 13,709 | 15,132 | 1,423 | 10.4 | 14,196
| NM | Pueblo of Acoma | 31,531 | 20,341 | −11,189 | −35.5 | 29,970
| NM | Pueblo of Isleta | 12,064 | 44,404 | 32,340 | 268.1 | 23,029
477 | NM | Pueblo of Laguna | 38,385 | 32,249 | −6,136 | −16.0 | 36,485
477 | NM | Pueblo of Taos | 19,192 | 10,915 | −8,278 | −43.1 | 18,242
477 | NM | Pueblo of Zuni | 132,977 | 128,250 | −4,726 | −3.6 | 128,250
| NM | Ramah Navajo School Board, Inc | 31,531 | 31,008 | −522 | −1.7 | 31,008
| NM | Santo Domingo Tribe | 46,610 | 42,915 | −3,695 | −7.9 | 44,303
| NY | Native American Community Svcs. of Erie & Niagara Counties, Inc | 3,290 | 15,132 | 11,842 | 359.9 | 7,305
477 | NY | Seneca Nation of Indians | 32,901 | 62,017 | 29,115 | 88.5 | 42,781
477 | NY | St. Regis Mohawk Tribe | 23,305 | 45,396 | 22,091 | 94.8 | 30,800
| NC | Cumberland County Association for Indian People, Inc | 0 | 0 | 0 | 0.0 | 0
| NC | Eastern Band of Cherokee Indians | 58,948 | 58,544 | −405 | −0.7 | 58,544
| NC | Guilford Native American Association | 0 | 0 | 0 | 0.0 | 0
| NC | Lumbee Regional Development Association, Inc | 0 | 0 | 0 | 0.0 | 0
| NC | North Carolina Commission of Indian Affairs | 0 | 0 | 0 | 0.0 | 0
477 | ND | Spirit Lake Sioux Tribe | 76,770 | 79,133 | 2,363 | 3.1 | 77,598
477 | ND | Standing Rock Sioux Tribe | 127,493 | 131,475 | 3,982 | 3.1 | 128,887
477 | ND | Three Affiliated Tribes | 57,577 | 50,606 | −6,972 | −12.1 | 54,727
| ND | Turtle Mountain Band of Chippewa Indians | 131,606 | 107,661 | −23,945 | −18.2 | 125,092
| ND | United Tribes Technical College | 0 | 0 | 0 | 0.0 | 0
| OH | North American Indian Cultural Center, Inc | 0 | 0 | 0 | 0.0 | 0
477 | OK | Absentee Shawnee Tribe | 13,435 | 16,372 | 2,938 | 21.9 | 14,435
477 | OK | Cherokee Nation of Oklahoma | 692,575 | 881,875 | 189,301 | 27.3 | 756,977
477 | OK | Cheyenne Arapaho Tribes of Oklahoma | 106,930 | 73,676 | −33,254 | −31.1 | 101,637
477 | OK | Chickasaw Nation | 208,101 | 175,383 | −32,719 | −15.7 | 197,800
477 | OK | Choctaw Nation of Oklahoma | 298,854 | 277,090 | −21,765 | −7.3 | 284,061
477 | OK | Citizen Potawatomi Nation | 298,580 | 417,247 | 118,667 | 39.7 | 338,904
| OK | Comanche Tribe of Oklahoma | 74,028 | 45,892 | −28,136 | −38.0 | 70,364
477 | OK | Creek Nation of Oklahoma | 364,657 | 477,527 | 112,870 | 31.0 | 403,040
| OK | Inter-Tribal Council of Northeast Oklahoma | 27,692 | 40,435 | 12,743 | 46.0 | 32,021
| OK | Kiowa Tribe of Oklahoma | 162,039 | 125,025 | −37,014 | −22.8 | 154,018
477 | OK | Osage Nation | 53,465 | 20,341 | −33,123 | −62.0 | 50,819
| OK | Otoe-Missouria Tribe | 17,273 | 6,698 | −10,575 | −61.2 | 16,418
477 | OK | Pawnee Nation of Oklahoma | 15,080 | 22,078 | 6,998 | 46.4 | 17,457
| OK | Ponca Tribe of Oklahoma | 57,303 | 44,652 | −12,651 | −22.1 | 54,467
| OK | Tonkawa Tribe of Oklahoma | 28,789 | 16,869 | −11,920 | −41.4 | 27,364
| OK | United Urban Indian Council, Inc | 204,263 | 162,731 | −41,531 | −20.3 | 194,152
477 | OK | Wyandotte Nation | 0 | 0 | 0 | 0.0 | 0
477 | OR | Confed. Tribes of the Umatilla Indian Reservation | 15,080 | 10,171 | −4,909 | −32.6 | 14,334
477 | OR | Confederated Tribes of Siletz Indians | 1,097 | 9,427 | 8,330 | 759.5 | 3,921
| OR | Confederated Tribes of Warm Springs | 42,498 | 66,730 | 24,232 | 57.0 | 50,726
| PA | Council of Three Rivers American Indian Center, Inc | 0 | 0 | 0 | 0.0 | 0
| RI | Rhode Island Indian Council, Inc | 9,322 | 5,954 | −3,368 | −36.1 | 8,861
| SC | South Carolina Indian Development Council, Inc | 2,742 | 5,706 | 2,964 | 108.1 | 3,748
477 | SD | Cheyenne River Sioux Tribe | 145,315 | 113,118 | −32,196 | −22.2 | 138,122
| SD | Lower Brule Sioux Tribe | 20,563 | 33,489 | 12,926 | 62.9 | 24,951
| SD | Oglala Sioux Tribe | 426,347 | 410,301 | −16,046 | −3.8 | 410,301
477 | SD | Rosebud Sioux Tribe (Sicangu Nation) | 264,582 | 301,897 | 37,314 | 14.1 | 277,322
477 | SD | Sisseton-Wahpeton Oyate | 60,319 | 69,955 | 9,635 | 16.0 | 63,606
| SD | Yankton Sioux Tribe | 54,836 | 60,528 | 5,692 | 10.4 | 56,784
| TN | Native American Indian Association, Inc | 0 | 0 | 0 | 0.0 | 0
| TX | Alabama-Coushatta Indian Tribal Council | 1,097 | 3,225 | 2,128 | 194.0 | 1,819
| TX | Dallas Inter-Tribal Center | 0 | 0 | 0 | 0.0 | 0
| TX | Ysleta del Sur Pueblo | 17,822 | 36,466 | 18,644 | 104.6 | 24,147
| UT | Indian Training & Education Center | 6,032 | 1,488 | −4,544 | −75.3 | 5,733
| UT | Ute Indian Tribe | 61,690 | 60,280 | −1,410 | −2.3 | 60,280
| VA | Mattaponi Pamunkey Monacan Consortium | 0 | 0 | 0 | 0.0 | 0
| WA | American Indian Community Center | 18,644 | 28,776 | 10,132 | 54.3 | 22,085
| WA | Confederated Tribes & Bands of the Yakama Nation | 112,139 | 112,126 | −13 | 0.0 | 112,126
477 | WA | Confederated Tribes of the Colville Reservation | 50,723 | 36,466 | −14,257 | −28.1 | 48,212
477 | WA | Lummi Indian Business Council | 27,418 | 23,566 | −3,852 | −14.0 | 26,061
477 | WA | Makah Tribal Council | 13,709 | 11,163 | −2,546 | −18.6 | 13,030
477 | WA | South Puget Intertribal Planning Agency | 98,704 | 92,777 | −5,927 | −6.0 | 93,818
477 | WA | Spokane Reservation | 24,676 | 11,907 | −12,769 | −51.7 | 23,455
477 | WA | Suquamish Indian Tribe | 2,742 | 992 | −1,750 | −63.8 | 2,606
477 | WA | The Tulalip Tribes | 21,934 | 13,644 | −8,291 | −37.8 | 20,848
| WA | United Indians of All Tribes Foundation | 0 | 0 | 0 | 0.0 | 0
477 | WI | Ho-Chunk Nation | 4,935 | 11,907 | 6,972 | 141.3 | 7,300
| WI | Lac Courte Oreilles Tribal Governing Board | 61,416 | 59,288 | −2,128 | −3.5 | 59,288
| WI | Lac Du Flambeau Band of Lake Superior Chippewa Indians, Inc | 12,338 | 28,776 | 16,438 | 133.2 | 17,914
477 | WI | Menominee Indian Tribe of Wisconsin | 50,723 | 40,683 | −10,040 | −19.8 | 48,212
| WI | Oneida Tribe of Indians of Wisconsin | 16,451 | 32,993 | 16,542 | 100.6 | 22,063
| WI | Spotted Eagle, Inc | 0 | 0 | 0 | 0.0 | 0
477 | WI | Stockbridge-Munsee Community | 3,838 | 2,481 | −1,358 | −35.4 | 3,648
477 | WY | Eastern Shoshone Tribe | 36,740 | 22,078 | −14,662 | −39.9 | 34,921
477 | WY | Northern Arapaho Business Council | 82,528 | 49,613 | −32,914 | −39.9 | 78,443
Total |  |  | 14,153,637 | 14,161,107 |  |  | 14,161,107

[FR Doc. 2024-14039 Filed 6-26-24; 8:45 am]

BILLING CODE 4510-FN-P